DEPARTMENT OF COMMERCE

Patent and Trademark Office

Agency Information Collection Activities; Submission to the Office of Management and Budget (OMB) for Review and Approval; Comment Request; Initial Patent Applications

AGENCY: United States Patent and Trademark Office, Department of Commerce.

ACTION: Notice of information collection; request for comment.

SUMMARY: The United States Patent and Trademark Office (USPTO), as required by the Paperwork Reduction Act of 1995, invites comments on the extension and revision of an existing information collection: 0651-0032 Initial Patent Applications. The purpose of this notice is to allow 60 days for public comment preceding submission of the information collection to OMB.

DATES: To ensure consideration, comments regarding this information collection must be received on or before March 11, 2024.

ADDRESSES: Interested persons are invited to submit written comments by any of the following methods. Do not submit Confidential Business Information or otherwise sensitive or protected information.

• Email: InformationCollection@uspto.gov. Include “0651-0032 comment” in the subject line of the message.

• Federal Rulemaking Portal: http://www.regulations.gov.

• Mail: Justin Isaac, Office of the Chief Administrative Officer, United States Patent and Trademark Office, P.O. Box 1450, Alexandria, VA 22313-1450.

FOR FURTHER INFORMATION CONTACT: Requests for additional information should be directed to Raul Tamayo, Senior Legal Advisor, United States Patent and Trademark Office, P.O. Box 1450, Alexandria, VA 22313-1450; by telephone at 571-272-7728; or by email at raul.tamayo@uspto.gov with “0651-0032 comment” in the subject line. Additional information about this information collection is also available at http://www.reginfo.gov under “Information Collection Review.”

SUPPLEMENTARY INFORMATION:

I. Abstract

The United States Patent and Trademark Office (USPTO) is required by title 35 of the United States Code, including 35 U.S.C. 131, to examine applications for patents. The USPTO administers the patent statutes relating to examination through various rules in chapter 37 of the Code of Federal Regulations (CFR), such as, for example, 37 CFR 1.16 through 1.84. Each patent applicant must provide sufficient information to allow the USPTO to properly examine the application to determine whether it meets the criteria set forth in the patent statutes and regulations for issuance as a patent. The patent statutes and regulations require that an application for patent include the following information:

(1) A specification containing a description of the invention and at least one claim defining the property right sought by the applicant;

(2) A drawing(s) or photograph(s), where necessary for an understanding of the invention;

(3) An oath or declaration signed by the applicant (under 35 U.S.C. 115(f), the time for filing the oath or declaration is no later than the date on which the issue fee for the patent is paid); and

(4) A filing fee.

Various types of patent applications are covered under this information collection:

• Noncontinuing, nonprovisional utility, plant and design applications,

• Provisional applications,

• Continuation/divisional applications of international applications,

• Continued prosecution applications (design), and

• Continuation/divisional and continuation-in-part applications of utility, plant, and design applications.

In addition, this information collection covers certain other papers filed by applicants, such as, for example, petitions to accept an unintentionally delayed priority or benefit claim, petitions to accept a filing by other than all of the inventors or a person not the inventor, and petitions requesting that applications filed under 37 CFR 1.495(b) be accorded a receipt date.

Furthermore, this information collection incorporates the lone item in 0651-0073 (Patent Law Treaty): petitions to restore the right of priority to a foreign application under 37 CFR 1.55(c) or the benefit of a prior-filed provisional application under 37 CFR 1.78(b). The petitions are used to extend the 12-month periods set forth in 35 U.S.C. 119(a) and (e) by an additional 2 months where there is an unintentional delay in filing an application claiming priority to a foreign application or the benefit of a provisional application. Once this information collection is renewed, and the petitions are added, 0651-0073 will be discontinued.

II. Method of Collection

The items in this information collection can be submitted through the USPTO patent electronic filing system (Patent Center), the USPTO's online filing and viewing system for patent applications and related documents. The USPTO also will accept submissions by mail, hand delivery, and facsimile, except that facsimile submission of the information in this collection is limited to certain items in accordance with 37 CFR 1.6(d).

III. Data

OMB Control Number: 0651-0032.

Forms: (AIA = America Invents Act; SB = Specimen Book)

• PTO/AIA/01 (Declaration (37 CFR 1.63) for Utility or Design Patent Application using an Application Data Sheet (37 CFR 1.76))

• PTO/AIA/01CN (Chinese (simplified) Language Declaration (37 CFR 1.63) for Utility or Design Application Using an Application Data Sheet (37 CFR 1.76))

• PTO/AIA/01DE (German Language Declaration (37 CFR 1.63) for Utility or Design Application Using an Application Data Sheet (37 CFR 1.76))

• PTO/AIA/01ES (Spanish Language Declaration (37 CFR 1.63) for Utility or Design Application Using an Application Data Sheet (37 CFR 1.76))

• PTO/AIA/01FR (French Language Declaration (37 CFR 1.63) for Utility or Design Application Using an Application Data Sheet (37 CFR 1.76))

• PTO/AIA/01IT (Italian Language Declaration (37 CFR 1.63) for Utility or Design Application Using an Application Data Sheet (37 CFR 1.76))

• PTO/AIA/01JP (Japanese Language Declaration (37 CFR 1.63) for Utility or Design Application Using an Application Data Sheet (37 CFR 1.76))

• PTO/AIA/01KR (Korean Language Declaration (37 CFR 1.63) for Utility or Design Application Using An Application Data Sheet (37 CFR 1.76))

• PTO/AIA/01NL (Dutch Language Declaration (37 CFR 1.63) for Utility or Design Application Using an Application Data Sheet (37 CFR 1.76))

• PTO/AIA/01RU (Russian Language Declaration (37 CFR 1.63) for Utility or Design Application Using An Application Data Sheet (37 CFR 1.76))

• PTO/AIA/01SE (Swedish Language Declaration (37 CFR 1.63) for Utility or Design Application Using an Application Data Sheet (37 CFR 1.76))

• PTO/AIA/02 (Substitute Statement in Lieu of an Oath or Declaration for Utility or Design Patent Application (35 U.S.C. 115(d) and 37 CFR 1.64))

• PTO/AIA/02CN (Chinese (Simplified) Language Substitute Statement in Lieu of an Oath or Declaration for Utility or Design Patent Application (35 U.S.C. 115(d) and 37 CFR 1.64))

• PTO/AIA/02DE (German Language Substitute Statement in Lieu of an Oath or Declaration for Utility or Design Patent Application (35 U.S.C. 115(d) and 37 CFR 1.64))

• PTO/AIA/02ES (Spanish Language Substitute Statement in Lieu of an Oath or Declaration for Utility or Design Patent Application (35 U.S.C. 115(d) and 37 CFR 1.64))

• PTO/AIA/02FR (French Language Substitute Statement in Lieu of an Oath or Declaration for Utility or Design Patent Application (35 U.S.C. 115(d) and 37 CFR 1.64))

• PTO/AIA/02IT (Italian Language Substitute Statement in Lieu of an Oath or Declaration for Utility or Design Patent Application (35 U.S.C. 115(d) and 37 CFR 1.64))

• PTO/AIA/02JP (Japanese Language Substitute Statement In Lieu of an Oath or Declaration for Utility or Design Patent Application (35 U.S.C. 115(d) and 37 CFR 1.64))

• PTO/AIA/02KR (Korean Language Substitute Statement in Lieu of an Oath or Declaration for Utility or Design Patent Application (35 U.S.C. 115(d) and 37 CFR 1.64))

• PTO/AIA/02NL (Dutch Language Substitute Statement in Lieu of an Oath or Declaration for Utility or Design Patent Application (35 U.S.C. 115(d) and 37 CFR 1.64))

• PTO/AIA/02RU (Russian Language Substitute Statement in Lieu of an Oath or Declaration for Utility or Design Patent Application (35 U.S.C. 115(d) and 37 CFR 1.64))

• PTO/AIA/02SE (Swedish Language Substitute Statement in Lieu of an Oath or Declaration for Utility or Design Patent Application (35 U.S.C. 115(d) and 37 CFR 1.64))

• PTO/AIA/03 (Declaration (37 CFR 1.63) for Plant Patent Application Using an Application Data Sheet (37 CFR 1.76))

• PTO/AIA/04 (Substitute Statement in Lieu of an Oath or Declaration for Plant Patent Application (35 U.S.C. 115(d) and 37 CFR 1.64))

• PTO/AIA/08 (Declaration for Utility or Design Patent Application (37 CFR 1.63))

• PTO/AIA/09 (Plant Patent Application (35 U.S.C. 161) Declaration (37 CFR 1.162))

• PTO/AIA/10 (Supplemental Sheet for Declaration (Additional Inventor(s), Supplemental Sheet for PTO/AIA/08, 09))

• PTO/AIA/11 (Substitute Statement Supplemental Sheet (Inventor(s), Supplemental Sheet for PTO/AIA/02, 04, 07))

• PTO/AIA/14 (Application Data Sheet 37 CFR 1.76)

• PTO/AIA/15 (Utility Patent Application Transmittal)

• PTO/AIA/18 (Design Patent Application Transmittal)

• PTO/AIA/19 (Plant Patent Application Transmittal)

• PTO/SB/01 (Declaration for Utility or Design Patent Application (37 CFR 1.63))

• PTO/SB/01A (Declaration (37 CFR 1.63) for Utility or Design Application Using an Application Data Sheet (37 CFR 1.76))

• PTO/SB/02 consisting of PTO/SB/02A (Declaration (Additional Inventor(s), Supplemental Sheet)) and PTO/SB/02B (Declaration—Supplemental Priority Data Sheet)

• PTO/SB/02CN (Declaration (Additional Inventors) and Supplemental Priority Data Sheets [2 pages] (Chinese Language Declaration for Additional Inventors)

• PTO/SB/02DE (Declaration (Additional Inventors) and Supplemental Priority Data Sheets [2 pages] (German Language Declaration for Additional Inventors))

• PTO/SB/02ES (Declaration (Additional Inventors) and Supplemental Priority Data Sheet [2 pages] (Spanish Language Declaration for Additional Inventors))

• PTO/SB/02FR (Declaration (Additional Inventors) and Supplemental Priority Data Sheet [2 pages] (French Language Declaration for Additional Inventors))

• PTO/SB/02IT (Declaration (Additional Inventors) and Supplemental Priority Data Sheet [2 pages] (Italian Language Declaration for Additional Inventors))

• PTO/SB/02JP (Japanese Language Substitute Statement in Lieu of an Oath or Declaration for Utility or Design Patent Application (35 U.S.C. 115(d) and 37 CFR 1.64))

• PTO/SB/02KR (Declaration (Additional Inventors) and Supplemental Priority Data Sheet [2 pages] (Korean Language Declaration for Additional Inventors))

• PTO/SB/02NL (Declaration (Additional Inventors) and Supplemental Priority Data Sheet [2 pages] (Dutch Language Declaration for Additional Inventors))

• PTO/SB/02RU (Declaration (Additional Inventors) and Supplemental Priority Data Sheet [2 pages] (Russian Language Declaration for Additional Inventors))

• PTO/SB/02SE (Declaration (Additional Inventors) and Supplemental Priority Data Sheet [2 pages] (Swedish Language Declaration for Additional Inventors))

• PTO/SB/02LR (Declaration Supplemental Sheet for Legal Representatives (35 U.S.C. 117) on Behalf of a Deceased or Incapacitated Inventor)

• PTO/SB/03 (Plant Patent Application (35 U.S.C. 161) Declaration (37 CFR 1.63))

• PTO/SB/04 (Supplemental Declaration for Utility or Design Patent Application (37 CFR 1.67))

• PTO/SB/05 (Utility Plant Application Transmittal)

• PTO/SB/06 (Patent Application Fee Determination Record (Substitute for Form PTO-875)

• PTO/SB/07 (Multiple Dependent Claim Fee Calculation Sheet (Substitute for Form PTO-1360; For Use With Form PTO/SB/06)

• PTO/SB/16 (Provisional Application for Patent Cover Sheet)

• PTO/SB/17 (Fee Transmittal)

• PTO/SB/29 (For Design Applications Only: Continued Prosecution Application (CPA) Request Transmittal)

• PTO/SB/29A (For Design Applications Only: Receipt for Facsimile Transmitted CPA)

• PTO/SB/101 (Declaration for Utility or Design Patent Application (37 CFR 1.63) (Chinese Language Declaration)

• PTO/SB/102 (Declaration for Utility or Design Patent Application (37 CFR 1.63) (Dutch Language Declaration)

• PTO/SB/103 (Declaration for Utility or Design Patent Application (37 CFR 1.63) (German Language Declaration)

• PTO/SB/104 (Declaration for Utility or Design Patent Application (37 CFR 1.63) (Italian Language Declaration)

• PTO/SB/105 (Declaration for Utility or Design Patent Application (37 CFR 1.63) (French Language Declaration)

• PTO/SB/106 (Declaration for Utility or Design Patent Application (37 CFR 1.63) (Japanese Language Declaration)

• PTO/SB/107 (Declaration for Utility or Design Patent Application (37 CFR 1.63) (Russian Language Declaration)

• PTO/SB/108 (Declaration for Utility or Design Patent Application (37 CFR 1.63) (Swedish Language Declaration)

• PTO/SB/109 (Declaration for Utility or Design Patent Application (37 CFR 1.63) (Spanish Language Declaration)

• PTO/SB/110 (Declaration for Utility or Design Patent Application (37 CFR 1.63) (Korean Language Declaration)

• PTO/SB/445 (Petition To Accept an Unintentionally Delayed Claim Under 35 U.S.C. 119(e) (37 CFR 1.78(c)) and/or To Accept an Unintentionally Delayed Claim Under 35 U.S.C. 120, 121, 365(c), or 386(c) (37 CFR 1.78(e)) for the Benefit of a Prior-Filed Application)

• PTO/SB/458 (Petition To Accept an Unintentionally Delayed Claim Under 35 U.S.C. 119(a)-(d) or (f), 365(a) or (b), or 386(a) or (b) for the Right of Priority to a Prior-Filed Foreign Application (37 CFR 1.55(e))

• PTO/SB/459 (Petition To Restore the Benefit of a Provisional Application (37 CFR 1.78(b)) or To Restore the Priority to a Foreign Application (37 CFR 1.55(c))

Type of Review: Extension and revision of a currently approved information collection.

Affected Public: Private sector.

Respondent's Obligation: Required to obtain or retain benefits.

Estimated Number of Annual Respondents: 588,255 respondents.

Estimated Number of Annual Responses: 588,255 responses.

Estimated Time per Response: The USPTO estimates that the responses in this information collection will take the public approximately between 45 minutes (0.75 hours) and 40 hours to complete. This includes the time to gather the necessary information, create the document, and submit the completed request to the USPTO.

Estimated Total Annual Respondent Burden Hours: 12,543,215 hours.

Estimated Total Annual Respondent Hourly Cost Burden: $5,606,817,105.

Table 1—Total Burden Hours and Hourly Costs to Private Sector Respondents
Item No. | Item | Estimated annual respondents | Responses per respondent | Estimated annual responses (year) | Estimated time for response (hours) | Estimated annual burden (hour/year) | Rate ¹ ($/hour) | Estimated annual burden
|  | (a) | (b) | (a) × (b) = (c) | (d) | (c) × (d) = (e) | (f) | (e) × (f) = (g)
1 | Noncontinuing, Nonprovisisional Utility Applications | 214,000 | 1 | 214,000 | 40 | 8,560,000 | 447 | 3,826,320,000
2 | Noncontinuing, Nonprovisisional Plant Applications | 1,000 | 1 | 1,000 | 9 | 9,000 | 447 | 4,023,000
3 | Noncontinuing, Nonprovisisional Design Applications | 42,000 | 1 | 42,000 | 7 | 294,000 | 447 | 131,418,000
4 | Continuation/Divisional of an International Application | 26,000 | 1 | 26,000 | 4 | 104,000 | 447 | 46,488,000
5 | Utility Continuation/Divisional Applications | 114,000 | 1 | 114,000 | 4 | 456,000 | 447 | 203,832,000
6 | Plant Continuation/Divisional Application | 5 | 1 | 5 | 3 | 15 | 447 | 6,705
7 | Design Continuation/Divisional Application | 6,000 | 1 | 6,000 | 1 | 6,000 | 447 | 2,682,000
8 | Continued Prosecution Applications—Design (Request Transmittal and Receipt) | 1,500 | 1 | 1,500 | 1 | 1,500 | 447 | 670,500
9 | Utility Continuation-in-Part Applications | 11,000 | 1 | 11,000 | 20 | 220,000 | 447 | 98,340,000
10 | Design Continuation-in-Part Applications | 850 | 1 | 850 | 3 | 2,550 | 447 | 1,139,850
11 | Provisional Application for Patent Cover Sheet | 160,000 | 1 | 160,000 | 18 | 2,880,000 | 447 | 1,287,360,000
12 | Petition To Accept Unintentionally Delayed Priority or Benefit Claim | 1,100 | 1 | 1,100 | 1 | 1,100 | 447 | 491,700
13 | Petition to be the applicant under 37 CFR 1.46(b) by a person who otherwise shows a sufficient proprietary interest in the matter | 3,000 | 1 | 3,000 | 1 | 3,000 | 447 | 1,341,000
14 | Papers filed under the following: | 7,000 | 1 | 7,000 | .75 | 5,250 | 447 | 2,346,750
| 1.41(c) or 1.41(a)(2) (pre-AIA)—to supply the name or names of the inventor or inventors after the filing date without a cover sheet as prescribed by 37 CFR 1.51(c)(1) in a provisional application
| 1.48(d)—for correction of inventorship in a provisional application
| 1.53 (c)(2) or 1.53(c)(2) (pre-PLT (AIA))—to convert a nonprovisional application filed under 1.53(b) to a provisional application filed under 1.53(c)
15 | Petition To Restore the Right of Priority under 37 CFR 1.55(c) | 800 | 1 | 800 | 1 | 800 | 447 | 357,600
| Or
| Petition To Restore the Benefit of a Prior-Filed Provisional Application under 37 CFR 1.78(b)
Totals |  | 588,255 |  | 588,255 |  | 12,543,215 |  | 5,606,817,105
¹ 2023 Report of the Economic Survey, published by the Committee on Economics of Legal Practice of the American Intellectual Property Law Association (AIPLA); pg. F-41. The USPTO uses the average billing rate for intellectual property work in all firms which is $447 per hour (https://www.aipla.org/home/news-publications/economic-survey).

Estimated Total Annual Respondent Non-hourly Cost Burden: $1,156,494,847 per year.

There are no capital start-up, maintenance, or recordkeeping costs associated with this information collection. However, there is non-hour cost burden in the way of filing fees, drawing costs, and postage costs.

The total annual (non-hour) respondent cost burden for this collection is estimated to be $1,156,494,847, which includes $672,189,140 in filing fees, $484,123,750 in drawing costs, and $181,957 in postage.

Fees

The filing fees associated with this information collection are listed in the table below.

Table 2—Filing Fee Costs to Private Sector Respondents
Item No. | Fee code | Item | Estimated annual responses | Amount | Totals
|  |  | (a) | (b) | (a) × (b) = (c)
1, 4 | 1011 | Basic Filing Fee—Utility (Paper Filing—Also Requires Non-Electronic Filing Fee Under 1.16(t)) (undiscounted entity) | 250,450 | $320 | $80,144,000
1, 4 | 2011 | Basic Filing Fee—Utility (Paper Filing—Also Requires Non-Electronic Filing Fee Under 1.16(t)) (small entity) | 260 | 128 | 33,280
1, 4 | 3011 | Basic Filing Fee—Utility (Paper Filing—Also Requires Non-Electronic Filing Fee Under 1.16(t)) (micro entity) | 14,520 | 64 | 929,280
1, 4 | 4011 | Basic Filing Fee—Utility (electronic filing for small entities) | 84,760 | 64 | 5,424,640
1, 4 | 1081 | Utility Application Size Fee—For Each Additional 50 Sheets That Exceeds 100 Sheets (undiscounted entity) | 20,640 | 420 | 8,668,800
1, 4 | 2081 | Utility Application Size Fee—For Each Additional 50 Sheets That Exceeds 100 Sheets (small entity) | 11,630 | 168 | 1,953,840
1, 4 | 3081 | Utility Application Size Fee—For Each Additional 50 Sheets That Exceeds 100 Sheets (micro entity) | 220 | 84 | 18,480
1, 4 | 1111 | Utility Search Fee (undiscounted entity) | 248,740 | 700 | 174,118,000
1, 4 | 2111 | Utility Search Fee (small entity) | 83,900 | 280 | 23,492,000
1, 4 | 3111 | Utility Search Fee (micro entity) | 14,330 | 140 | 2,006,200
1, 4 | 1311 | Utility Examination Fee (undiscounted entity) | 249,600 | 800 | 199,680,000
1, 4 | 2311 | Utility Examination Fee (small entity) | 84,100 | 320 | 26,912,000
1, 4 | 3311 | Utility Examination Fee (micro entity) | 14,360 | 160 | 2,297,600
1,2 4-6, and 9 | 1201 | Each Independent Claim in Excess of Three (undiscounted entity) | 42,020 | 480 | 20,169,600
1,2 4-6, and 9 | 2201 | Each Independent Claim in Excess of Three (small entity) | 14,500 | 192 | 2,784,000
1,2 4-6, and 9 | 3201 | Each Independent Claim in Excess of Three (micro entity) | 1,400 | 96 | 134,400
1,2 4-6, and 9 | 1202 | Each Claim in Excess of 20 (undiscounted entity) | 304,230 | 100 | 30,423,000
1,2 4-6, and 9 | 2202 | Each Claim in Excess of 20 (small entity) | 158,280 | 40 | 6,331,200
1,2 4-6, and 9 | 3202 | Each Claim in Excess of 20 (micro entity) | 7,790 | 20 | 155,800
1,2 4-6, and 9 | 1203 | Multiple Dependent Claim (undiscounted entity) | 730 | 860 | 627,800
1,2 4-6, and 9 | 2203 | Multiple Dependent Claim (small entity) | 470 | 344 | 161,680
1,2 4-6, and 9 | 3203 | Multiple Dependent Claim (micro entity) | 70 | 172 | 12,040
2, 5 | 1313 | Plant Examination Fee (undiscounted entity) | 490 | 660 | 323,400
2, 5 | 2313 | Plant Examination Fee (small entity) | 480 | 264 | 126,720
2, 5 | 3313 | Plant Examination Fee (micro entity) | 10 | 132 | 1,320
2, 5 | 1013 | Basic Filing Fee—Plant (undiscounted entity) | 490 | 220 | 107,800
2, 5 | 2013 | Basic Filing Fee—Plant (small entity) | 480 | 88 | 42,240
2, 5 | 3013 | Basic Filing Fee—Plant (micro entity) | 10 | 44 | 440
2, 5 | 1113 | Plant Search Fee (undiscounted entity) | 490 | 440 | 215,600
2, 5 | 2113 | Plant Search Fee (small entity) | 480 | 176 | 84,480
2, 5 | 3113 | Plant Search Fee (micro entity) | 10 | 88 | 880
2, 5 | 1083 | Plant Application Size Fee—For Each Additional 50 Sheets That Exceeds 100 Sheets (undiscounted entity) | 1 | 420 | 420
2, 5 | 2083 | Plant Application Size Fee—For Each Additional 50 Sheets That Exceeds 100 Sheets (small entity) | 1 | 168 | 168
2, 5 | 3083 | Plant Application Size Fee—For Each Additional 50 Sheets That Exceeds 100 Sheets (micro entity) | 1 | 84 | 84
3, 6 | 1012 | Basic Filing Fee—Design (undiscounted entity) | 20,0200 | 220 | 4,404,400
3, 6 | 2012 | Basic Filing Fee—Design (small entity) | 19,480 | 88 | 1,714,240
3, 6 | 3012 | Basic Filing Fee—Design (micro entity) | 15,890 | 44 | 699,160
3, 6 | 1017 | Basic Filing Fee—Design (CPA) (undiscounted entity) | 920 | 220 | 202,400
3, 6 | 2017 | Basic Filing Fee—Design (CPA) (small entity) | 500 | 88 | 44,000
3, 6 | 3017 | Basic Filing Fee—Design (CPA) (micro entity) | 85 | 44 | 3,740
3, 6 | 1082 | Design Application Size Fee—For Each Additional 50 Sheets That Exceeds 100 Sheets (undiscounted entity) | 170 | 420 | 71,400
3, 6 | 2082 | Design Application Size Fee—For Each Additional 50 Sheets That Exceeds 100 Sheets (small entity) | 90 | 168 | 15,120
3, 6 | 3082 | Design Application Size Fee—For Each Additional 50 Sheets That Exceeds 100 Sheets (micro entity) | 30 | 84 | 2,520
3, 6 | 1112 | Design Search Fee (undiscounted entity) | 20,660 | 160 | 3,305,600
3, 6 | 2112 | Design Search Fee (small entity) | 19,690 | 64 | 1,260,160
3, 6 | 3112 | Design Search Fee (micro entity) | 15,880 | 32 | 508,160
3, 6 | 1312 | Design Examination Fee (undiscounted entity) | 20,670 | 640 | 13,228,800
3, 6 | 2312 | Design Examination Fee (small entity) | 19,710 | 256 | 5,045,760
3, 6 | 3312 | Design Examination Fee (micro entity) | 15,880 | 128 | 2,032,640
11 | 1085 | Provisional Application Size Fee—For Each Additional 50 Sheets That Exceeds 100 Sheets (undiscounted entity) | 11,180 | 420 | 4,695,600
11 | 2085 | Provisional Application Size Fee—For Each Additional 50 Sheets That Exceeds 100 Sheets (small entity) | 11,360 | 168 | 1,908,480
11 | 3085 | Provisional Application Size Fee—For Each Additional 50 Sheets That Exceeds 100 Sheets (micro entity) | 110 | 84 | 9,240
11 | 1005 | Provisional Application Filing Fee (undiscounted entity) | 63,710 | 300 | 19,113,000
11 | 2005 | Provisional Application Filing Fee (small entity) | 69,250 | 120 | 8,310,000
11 | 3005 | Provisional Application Filing Fee (micro entity) | 23,150 | 60 | 1,389,000
1-11 | 1051 | Surcharge—Late Filing Fee, Search Fee, Examination Fee, Inventor's Oath or Declaration, or Application Filed Without at least One Claim or by Reference (undiscounted entity) | 78,200 | 160 | 12,512,000
1-11 | 2051 | Surcharge—Late Filing Fee, Search Fee, Examination Fee, Inventor's Oath or Declaration, or Application Filed Without at least One Claim or by Reference (small entity) | 33,010 | 64 | 2,112,640
1-11 | 3051 | Surcharge—Late Filing Fee, Search Fee, Examination Fee, Inventor's Oath or Declaration, or Application Filed Without at least One Claim or by Reference (micro entity) | 3,370 | 32 | 107,840
1-11 | 1052 | Surcharge—Late Provisional Filing Fee or Cover Sheet (undiscounted entity) | 1,700 | 60 | 102,000
1-11 | 2052 | Surcharge—Late Provisional Filing Fee or Cover Sheet (small entity) | 2,440 | 24 | 58,560
1-11 | 3052 | Surcharge—Late Provisional Filing Fee or Cover Sheet (micro entity) | 2,574 | 12 | 30,888
13 | 1463 | Electronic Petition To Be the Applicant Under 37 CFR 1.46 by a Person Who Otherwise Shows Sufficient Proprietary Interest in the Matter (undiscounted entity) | 1,800 | 220 | 396,000
13 | 2463 | Electronic Petition To Be the Applicant Under 37 CFR 1.46 by a Person Who Otherwise Shows Sufficient Proprietary Interest in the Matter (small entity) | 900 | 88 | 79,200
13 | 3463 | Electronic Petition To Be the Applicant Under 37 CFR 1.46 by a Person Who Otherwise Shows Sufficient Proprietary Interest in the Matter (micro entity) | 300 | 44 | 13,200
15 | 1454 | Grantable Petition To Restore the Right of Priority Under 37 CFR 1.55(c) (undiscounted entity) | 310 | 2,100 | 651,000
15 | 2454 | Grantable Petition To Restore the Right of Priority Under 37 CFR 1.55(c) (small entity) | 65 | 840 | 54,600
15 | 3454 | Grantable Petition To Restore the Right of Priority Under 37 CFR 1.55(c) (micro entity) | 25 | 420 | 10,500
15 | 1454 | Grantable Petition To Restore the Benefit of a Prior-Filed Provisional Application Under 37 CFR 1.78(b) (undiscounted entity) | 310 | 2,100 | 651,000
15 | 2454 | Grantable Petition To Restore the Benefit of a Prior-Filed Provisional Application Under 37 CFR 1.78(b) (small entity) | 65 | 840 | 54,600
15 | 3454 | Grantable Petition To Restore the Benefit of a Prior-Filed Provisional Application Under 37 CFR 1.78(b) (micro entity) | 25 | 420 | 10,500
Total Filing Fees | 2,083,472 |  | 672,189,140

Drawing Costs

Patent applicants can submit drawings with their utility, design, plant, and provisional applications. Applicants can prepare these drawings on their own or they can hire patent illustration services firms to create them. As a basis for estimating the drawing costs, the USPTO expects that all applicants will have their drawings prepared by a patent illustration firm.

Estimates for the patent drawing can vary greatly, depending on the number of figures to be produced, the total number of pages for the drawings, and the complexity of the drawings. Because there are many variables involved, the USPTO is using the average of the estimated cost ranges for the application drawings to derive the estimated cost per sheet that is then used to calculate the total drawing costs seen the table below.

The utility, plant, and design continuation and divisional applications use the same drawings as the initial filings, so they are not included in these totals. New drawings may be submitted in the continuation-in-part applications, so those numbers are included in these estimates. The drawings for the continued prosecution applications also are included in the drawing cost totals for designs. There are no continuation, divisional, or continuation-in-part provisional applications.

• Utility Application Drawings—The USPTO estimates that the costs to produce these drawings can range from $50 to $200 per sheet. Taking the average of this range, the USPTO estimates that it can cost $125 per sheet to produce the drawings and that, on average, 10 sheets of drawings are submitted for an average cost of $1,250 to produce the utility drawings. Out of 339,000 utility applications submitted, the USPTO estimates that 68% (or 230,520) applications will be submitted with drawings.

• Plant Application Drawings—In general, photographs are submitted for the plant applications, although drawings can also be submitted. The USPTO estimates that the cost to produce the photographs or drawings for the plant applications can range from $50 to $100. Taking the average of this range, the USPTO estimates that it can cost $75 per sheet to produce the photographs or drawings for the plant applications. On average, 10 sheets of drawings are submitted for an average cost of $750 to produce the photographs/drawings for the plant applications. Out of 1,005 plant applications submitted per year, the USPTO estimates that all of them will be submitted with drawings.

• Design Application Drawings—The USPTO estimates that the costs to produce design drawings can range from $50 to $350 per sheet. Taking the average of this range, the USPTO estimates that it can cost $200 per sheet to produce design drawings. On average, 10 sheets of drawings are submitted for an average cost of $2,000 to produce the design drawings. Out of 48,850 design applicants submitted per year, the USPTO estimates that all of them will be submitted with drawings.

• Provisional Application Drawings—The USPTO estimates that the cost to produce the provisional drawings can range from $30 to $200 per sheet. Taking the average of this range, the USPTO estimates that it can cost $115 per sheet to produce the provisional drawings. On average, 10 sheets of drawings are submitted for an average cost of $1,150 to produce the provisional drawings. Out of 160,000 provisional applications submitted per year, the USPTO estimates that 53% (or 84,800) applications will be submitted with drawings.

Table 3—Drawing Costs to Private Sector Respondents
Item No. | Item | Estimated annual responses | Estimated drawing costs amount ($) | Drawing cost totals
|  | (a) | (b) | (a) × (b) = (c)
1 | Utility Application Drawings | 230,520 | $1,250 | $288,150,000
2 | Plant Application Drawings (Photographs) | 1,005 | 750 | 753,750
3 | Design Applications Drawings | 48,850 | 2,000 | 97,700,000
11 | Provisional Application Drawings | 84,800 | 1,150 | 97,520,000
Total Drawing Costs |  | 365,175 | 484,123,750

Postage

Although the USPTO prefers that the items in this information collection be submitted electronically, the items may be submitted by mail through the United States Postal Service (USPS). The USPTO estimates the following:

• If an applicant decides to file a patent application covered under this information collection by mail, the USPTO recommends that the patent application be filed by Priority Mail Express® in accordance with 37 CFR 1.10 to establish the date of deposit with the USPS as the filing date (otherwise the filing date of the application will be the date that it is received at the USPTO). The USPTO estimates that about 1.5% of patent applicants (lines 1-10) will be filed by mail resulting in 6,245 mailed applications. Using the Priority Mail Express® flat rate cost for mailing envelopes, the USPTO estimates that the average cost for sending a patent application by Priority Mail Express® will be $28.95; resulting in a cost of $180,793.

• If an applicant decides to file a petition or a paper filed under 37 CFR 1.41(c), 1.41(a)(2) (pre-AIA), 1.48(d), 1.53(c)(2), 1.53(c)(2) (pre-PLT (AIA)), 1.55(c), or 1.78(b) by mail, the USPTO estimates that the petition or paper will be sent by Priority Mail. The USPTO estimates that about 1.5% of these petitions (lines 14 and 15) will be filed by mail resulting in 117 mailed items. Using the Priority Mail USPTO further estimates that the average cost for a Priority Mail legal flat rate envelope shipped via USPS is $9.95; resulting in an cost of $1,164.

Therefore, the total estimated postage cost for this collection is $181,957.

IV. Request for Comments

The USPTO is soliciting public comments to:

(a) Evaluate whether the collection of information is necessary for the proper performance of the functions of the Agency, including whether the information will have practical utility;

(b) Evaluate the accuracy of the Agency's estimate of the burden of the collection of information, including the validity of the methodology and assumptions used;

(c) Enhance the quality, utility, and clarity of the information to be collected; and

(d) Minimize the burden of the collection of information on those who are to respond, including through the use of appropriate automated, electronic, mechanical, or other technological collection techniques or other forms of information technology, e.g., permitting electronic submission of responses.

All comments submitted in response to this notice are a matter of public record. USPTO will include or summarize each comment in the request to OMB to approve this information collection. Before including an address, phone number, email address, or other personally identifiable information (PII) in a comment, be aware that the entire comment—including PII—may be made publicly available at any time. While you may ask in your comment to withhold PII from public view, USPTO cannot guarantee that it will be able to do so.

Justin Isaac,
Information Collections Officer, Office of the Chief Administrative Officer, United States Patent and Trademark Office.

[FR Doc. 2024-00268 Filed 1-9-24; 8:45 am]

BILLING CODE 3510-16-P